DEPARTMENT OF AGRICULTURE

Forest Service

Stanislaus National Forest, CA; Notice of Intent To Prepare an Environmental Impact Statement for Rim Fire Recovery

AGENCY: Forest Service, USDA.

ACTION: Notice of intent to prepare an Environmental Impact Statement.

SUMMARY: The Stanislaus National Forest proposes to remove hazard trees and dead trees within the Rim Fire perimeter in the Stanislaus National Forest in order to: capture the economic value of those trees which pays for their removal from the woods and potentially other future restoration treatments; provide for greater worker and public safety; reduce fuels for future forest resiliency to fire; and, improve road infrastructure to ensure proper hydrologic function.

DATES: Comments on the proposed action should be submitted within 30 days of the date of publication of this Notice of Intent. Completion of the Draft Environmental Impact Statement (EIS) is expected in April 2014 and the Final EIS in August 2014.

ADDRESSES: Comments may be: mailed to the Stanislaus National Forest; Attn: Rim Recovery; 19777 Greenley Road; Sonora, CA 95370; delivered to the address shown during business hours (M-F 8:00 a.m. to 4:30 p.m.); or, submitted by FAX (209) 533-1890. Submit electronic comments, in common (.doc, .pdf, .rtf, .txt) formats, to: comments-pacificsouthwest-stanislaus@fs.fed.us with Subject: Rim Recovery.

FOR FURTHER INFORMATION CONTACT: Maria Benech, Stanislaus National Forest, 19777 Greenley Road, Sonora, CA 95370, phone (209) 532-3671, or email: mbenech@fs.fed.us. A scoping package, maps and other information are online at: http://www.fs.fed.us/nepa/nepa_project_exp.php?project=43033.

SUPPLEMENTARY INFORMATION:

General Background

The Rim Fire started on August 17, 2013, in a remote area of the Stanislaus National Forest near the confluence of the Clavey and Tuolumne Rivers about 20 miles east of Sonora, California. Over the next several weeks it burned 257,314 acres, including 154,430 acres of National Forest System (NFS) lands, becoming the third largest wildfire in California history. The Rim Fire Recovery project is located within the Rim Fire perimeter in the Stanislaus National Forest on portions of the Mi-Wok and Groveland Ranger Districts.

Purpose and Need for Action

On August 22, 2013, after determining that conditions within the burn area were unsafe for public travel, Forest Supervisor Susan Skalski issued a temporary Forest Order (STF 2013-08) that prohibited public use within the burn area. The Forest Supervisor issued several updates changing the closure area to meet the current situation on the ground (2013-09 on 8/23/2013; 2013-10 on 8/31/2013; 2013-11 on 9/12/2013; 2013-14 on 9/27/2013). On November 18, 2013, the Forest Supervisor issued the current temporary Forest Order (STF 2013-15) that prohibits public use within the burn area until November 18, 2014.

Vegetation burn severities in the project area varied from low to high, but many areas contain trees killed or so severely damaged that they are not expected to survive.

The primary purposes of this project are to: capture the economic value of hazard trees and dead trees which pays for their removal from the woods and potentially other future restoration treatments; provide for greater worker and public safety; reduce fuels for future forest resiliency to fire; and, improve road infrastructure to ensure proper hydrologic function.

Proposed Action

The Forest Service proposed action, within the Rim Fire perimeter in the Stanislaus National Forest, includes: salvage of dead trees; removal of hazard trees and dead trees along roads open to the public; fuel reduction for future forest resiliency to fire; and, road improvements for proper hydrologic function. Implementation is expected to begin in summer 2014 and continue for up to 5 years. Roadside hazard trees will be designated for removal using the Hazard Tree Guidelines for Forest Service Facilities and Roads in the Pacific Southwest Region, April 2012 (Report RO-12-01). Dead trees will be designated for removal based on “no green needles visible from the ground”. Proposed treatments include: salvage of dead trees and fuel reduction (29,648 acres) including ground based mechanized equipment such as harvesters and rubber tired skidders (25,174 acres) and aerial based helicopter or cable systems (4,474 acres); removal of hazard trees, salvage of dead trees and fuel reduction along existing roads (390 miles); new road construction (6 miles); road reconstruction (234 miles); and, temporary road construction (6 miles). Temporary roads will be decommissioned following completion of project activities. No treatments are proposed within Wilderness, Inventoried Roadless Areas, or the wild classification segments of the Wild and Scenic Rivers. Project design will incorporate Best Management Practices (BMPs) according to regional and national guidance.

Possible Alternatives

In addition to the Proposed Action, the EIS will evaluate the required No Action alternative and will likely consider other alternatives identified through the inderdisciplinary process and public participation.

Responsible Official

Susan Skalski, Forest Supervisor, Stanislaus National Forest, Supervisor's Office, 19777 Greenley Road, Sonora, CA 95370.

Nature of Decision To Be Made

The responsible official will decide whether to adopt and implement the proposed action, an alternative to the proposed action, or take no action with respect to the Rim Fire Recovery project.

Scoping Process

Public participation is important at numerous points during the analysis. The Forest Service seeks information, comments and assistance from federal, state, and local agencies and individuals or organizations that may be interested in or affected by the proposed action.

The Forest Service conducts scoping according to the Council on Environmental Quality (CEQ) regulations (40 CFR 1501.7). In addition to other public involvment, this Notice of Intent initiates an early and open process for determining the scope of issues to be addressed in the EIS and for identifying the significant issues related to a proposed action. This scoping process allows the Forest Service to not only identify significant environmental issues deserving of study, but also to deemphasize insignificant issues, narrowing the scope of the EIS process accordingly (40 CFR 1500.4(g)).

Comment Requested

This Notice of Intent initiates the scoping proces which guides the development of the EIS. Comments on the proposed action should be submitted within 30 days of the date of publication of this Notice of Intent.

Early Notice of Importance of Public Participation in Subsequent Environmental Review

A draft EIS will be available for comment when the Environmental Protection Agency publishes the notice of availability in the Federal Register. The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate during the comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: December 2, 2013.
Susan Skalski,
Forest Supervisor.

[FR Doc. 2013-29135 Filed 12-5-13; 8:45 am]

BILLING CODE 3410-11-P